FEDERAL COMMUNICATIONS COMMISSION

47 CFR Part 73

[DA 01-2783; MM Docket No. 01-113; RM-9655]

Radio Broadcasting Services; Big Piney, LaBarge, WY

AGENCY: Federal Communications Commission.

ACTION: Proposed rule, dismissal.

SUMMARY: The Commission dismisses a petition for rule making filed by Mount Rushmore Broadcasting, Inc., requesting the allotment of Channel 259A at Big Piney, Wyoming, and Channel 261A at La Barge, Wyoming. Petitioner filed no comments in response to the Notice of Proposed Rulemaking. No other party filed comments.

FOR FURTHER INFORMATION CONTACT: Victoria M. McCauley, Mass Media Bureau, and (202) 418-2180.

SUPPLEMENTARY INFORMATION: This is a synopsis of the Commission's Report and Order, MM Docket No. 01-113 adopted November 21, 2001 and released November 30, 2001. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone 202-863-2893, facsimile 202-863-2898, or via e-mail qualexint@aol.com.

Federal Communications Commission.
John A. Karousos,
Chief, Allocations Branch, Policy and Rules Division, Mass Media Bureau.

[FR Doc. 01-30865 Filed 12-13-01; 8:45 am]

BILLING CODE 6712-01-P